DEPARTMENT OF COMMERCE

International Trade Administration

Application for Duty-Free Entry of a Scientific Instrument

Pursuant to section 6(c) of the Educational, Scientific and Cultural Materials Importation Act of 1966 (Pub. L. 89-651; as amended by Pub. L. 106-36; 80 Stat. 897; 15 CFR part 301), we invite comments on the question of whether an instrument of equivalent scientific value, for the purposes for which the instrument shown below is intended to be used, is being manufactured in the United States.

Comments must comply with 15 CFR 301.5(a)(3) and (4) of the regulations and be filed within 20 days with the Statutory Import Programs Staff, U.S. Department of Commerce, 14th and Constitution Ave., NW., Room 2104, Washington, DC 20230. Applications may be examined between 8:30 a.m. and 5 p.m. in Room 2104, U.S. Department of Commerce.

Docket Number: 08-003. Applicant: Rice University, 6100 Main Street, Houston, TX 77005. Instrument: Variable Temperature High Magnetic Field Nanometer-Precision Probe Station. Manufacturer: Attocube Systems AG, Germany.

Intended Use: The instrument is intended to be used to allow multiterminal electronic measurement of novel materials, particularly those difficult to wire up in traditional geometries. This instrument will enable additional analytical physics and chemistry research involving nanomaterials. This instrument can supply a cryostate and magnet system with four independently nanopositionable probes. This variable temperature probe system is unique and is essential to enable a variety of physics and chemistry research efforts involving nanomaterials. Application accepted by Commissioner of Customs: January 31, 2008.

Dated: March 3, 2008.
Faye Robinson,
Director, Statutory Import Programs Staff, Import Administration.

[FR Doc. 08-984 Filed 3-6-08; 8:45 am]

BILLING CODE 3510-DS-M